DEPARTMENT OF COMMERCE

Bureau of Economic Analysis

Proposal To Collect Information on Transactions of U.S. Affiliates With Their Foreign Parents

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m., September 13, 2005.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Obie G. Whichard, Chief, International Investment Division, (BE-50), Bureau of Economic Analysis, U.S. Department of Commerce, Washington, DC 20230; phone (202) 606-9890 (or via the Internet at obie.whichard@bea.gov).

SUPPLEMENTARY INFORMATION:

I. Abstract

The Transactions of U.S. Affiliate, Except a U.S. Banking Affiliate, with Foreign Parent (Form BE-605) and Transactions of U.S. Banking Affiliate with Foreign Parent (Form BE-605 Bank) obtain quarterly sample data on transactions and positions between foreign-owned U.S. business enterprises and their “affiliated foreign groups” (i.e., their foreign parents and foreign affiliates of their foreign parents). The data collected are used in the preparation of the U.S. international transactions accounts, national income and product accounts, and input-output accounts. The data are needed to measure the amount of foreign direct investment in the United States, monitor changes in such investment, assess its impact on the U.S. and foreign economies and, based upon this assessment, make informed policy decisions regarding foreign direct investment in the United States.

BEA proposes the following changes to the survey: (1) To maintain consistency of the U.S. international transactions accounts with current international statistical standards, collect information on payments to and receipts from the foreign parent and foreign affiliates of the foreign parent gross of any taxes withheld. Previously, the information was collected net of taxes withheld. (2) To avoid potential duplication, modify the instructions for the survey to instruct respondents to exclude positions and transactions in financial derivatives contracts that are to be reported on or derived from information reported to the Federal Reserve Bank of New York on the new Treasury International Capital Form D, Report of Holdings of, and Transactions in, Financial Derivatives Contracts with Foreign Residents. These changes will not have a material effect on overall respondent burden.

II. Method of Collection

Forms BE-605 and BE-605 Bank are quarterly reports that must be filed within 30 days after the end of each quarter (45 days after the final quarter of the respondent's fiscal year) by every U.S. business enterprise that is owned 10 percent or more by a foreign investor and that has total assets, sales or gross operating revenues, or net income (positive or negative) of over $30 million. Potential respondents are those U.S. business enterprises that were required to report in the BE-12, Benchmark Survey of Foreign Direct Investment in the United States—2002, along with those U.S. business enterprises that subsequently entered the direct investment universe. The data collected are sample data covering transactions and positions between foreign-owned U.S. business enterprises and their affiliated foreign groups. Universe estimates are developed from the reported sample data.

III. Data

OMB Number: 0608-0009.

Form Number: BE-605/BE-605 Bank.

Type of Review: Regular submission.

Affected Public: Businesses or other for-profit organizations.

Estimated Number of Respondents: 3,950 per quarter; 15,800 annually.

Estimated Time Per Response: 1¼ hours.

Estimated Total Annual Burden Hours: 19,750.

Estimated Total Annual Cost: $790,000 (based on an estimated reporting burden of 19,750 hours and an estimated hourly cost of $40).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 11, 2005.
Madeleine Clayton,
Management Analyst, Office of the Chief Information Officer.

[FR Doc. 05-13907 Filed 7-14-05; 8:45 am]

BILLING CODE 3510-06-P